DEPARTMENT OF THE INTERIOR

Bureau of Land Management

[UTU-78566]

Public Land Order No. 7552; Withdrawal of National Forest System Lands for the Trial, Washington, and Lost Lake Dams, Bonneville Unit, Central Utah Project; Utah

AGENCY: Bureau of Land Management, Interior.

ACTION: Public land order.

SUMMARY: This order withdraws 268.40 acres of National Forest System lands from location and entry under the United States mining laws, for a period of 50 years, for protection, operation and maintenance of the Bureau of Reclamation's Trial, Washington, and Lost Lake Dams in the Upper Provo River component of the Bonneville Unit of the Central Utah Project.

EFFECTIVE DATE: February 13, 2003.

FOR FURTHER INFORMATION CONTACT: David Krueger, Bureau of Reclamation, Provo Area Office, 302 East 1860 South, Provo, Utah 84606-7317; 801-379-1083.

Order

By virtue of the authority vested in the Secretary of the Interior by Section 204 of the Federal Land Policy and Management Act of 1976, 43 U.S.C. 1714 (1994), it is ordered as follows:

1. Subject to valid existing rights, the following described National Forest System lands are hereby withdrawn from location and entry under the United States mining laws, 30 U.S.C. Ch. 2 (1994), to protect the Bureau of Reclamation's Trial, Washington, and Lost Lake Dams in the Upper Provo River component of the Bonneville Unit of the Central Utah Project:

Salt Lake Meridian

Wasatch National Forest

T. 2 S., R. 9 E.,

Sec. 4, SW¼NW¼SW¼ and NW¼SW¼SW¼;

Sec. 5, lot 4, SE¼SW¼NE¼, SW¼SE¼NE¼, N½NW¼SW¼NW¼, NW½NE¼SE¼, SE¼NE¼SE¼, E½NW¼SE¼, and N½SE¼SE¼;

Sec. 6, lot 1, SW¼NE¼, N½NE¼SE¼NE¼, and N½NW¼SE¼;

Excepting therefrom a cabin lot situated in the NE¼ of sec. 6, being more particularly described as follows:

Beginning at a point, which lies North, 4,460 feet and West, 366 feet from the Southeast Corner of said Section 6; thence West, 134 feet; thence North, 163 feet; thence East, 132 feet; thence along the high water line of Trial Lake, South 02°26′45″ West, 54.60 feet; thence South 09°20′17″ East, 34.14 feet; thence South 09°45′06″ East, 36.13 feet; thence South 21°48′53″ West, 31.75 feet; thence South 24°15′26″ East, 10.66 feet; to the point of beginning. Containing 0.50 acre, more or less.

The areas described aggregate 268.40 acres in Summit County.

2. This withdrawal will expire 50 years from the effective date of this order unless, as a result of a review conducted before the expiration date pursuant to Section 204(f) of the Federal Land Policy and Management Act of 1976, 43 U.S.C. 1714(f) (1994), the Secretary determines that the withdrawal shall be extended.

Dated: January 9, 2003.
Rebecca W. Watson,
Assistant Secretary—Land and Minerals Management.

[FR Doc. 03-3566 Filed 2-12-03; 8:45 am]

BILLING CODE 4310-MN-P